DEPARTMENT OF HEALTH AND HUMAN SERVICES

Agency for Healthcare Research and Quality

Supplemental Solicitation for Nominations of Members From Populations Underrepresented in Medicine (URIM) To Serve on Scientific Peer Review Committee

AGENCY: Agency for Healthcare Research and Quality (AHRQ), HHS.

ACTION: To invite the public to nominate individuals from populations underrepresented in medicine to serve as scientific peer reviewers on Agency for Healthcare Research and Quality (AHRQ) scientific peer review groups.

SUMMARY: This supplemental notice invites the public to nominate individuals from populations underrepresented in medicine to serve as members to the AHRQ Initial Review Group (IRG), which is responsible for the scientific peer review of AHRQ grant applications. The AHRQ IRG conducts scientific and technical review for health services research and training grant applications and is comprised of five subcommittees or study sections, each with a particular research focus. AHRQ is seeking nominations from the public, including minority-serving institutions, academic health centers, community-based organizations, professional societies, or other state and federal agencies.

DATES: Nominations should be received on or before December 31, 2022.

ADDRESSES: Nominations should be submitted by email to dsr@ahrq.hhs.gov.

FOR FURTHER INFORMATION CONTACT: Celeste Torio, Ph.D., MPH., Director, Division of Scientific Review, AHRQ/OEREP, (301) 427-1664 or by email at celeste.torio@ahrq.hhs.gov.

SUPPLEMENTARY INFORMATION: AHRQ's mission is to produce evidence to make health care safer, higher quality, more accessible, equitable, and affordable, and to work within the U.S. Department of Health and Human Services (DHHS) and with other partners to make sure that the evidence is understood and used. AHRQ works to fulfill its mission by supporting health services research, evaluation, demonstration, dissemination, and training grants.

AHRQ published its annual solicitation for nominations for membership to serve on the IRG in the Federal Register on May 9, 2022 (87 FR 27643). AHRQ is publishing this supplemental solicitation encouraging the nomination of individuals from populations underrepresented in medicine to serve on the AHRQ IRG in order to foster a diversity of perspectives among IRG membership. The peer review of AHRQ grant applications involves an assessment conducted by IRG committees consisting of qualified experts established according to scientific disciplines or medical specialty areas. Members of the IRG are selected based upon their training and experience in relevant scientific and technical fields, taking in account, among other factors: (1) The level of formal education and pertinent expertise and experience; (2) extent of engagement in relevant research; (3) extent of professional recognition; (4) need for specialization in relevant field; and (5) appropriate representation based on gender, racial/ethnic origin, and geography. See 42 CFR 67.15(a)(2)(i)-(v).

The IRG is comprised of five subcommittees, or study sections, each with a particular emphasis around which peer reviewer expertise is assembled. AHRQ seeks nominations for each of the subcommittee competency domains described below:

Health Care Effectiveness and Outcomes Research: End-stage renal disease; cardiovascular disease; pediatrics; pharmacologist in opioid management; biostatisticians in health services research; health disparities and social determinants of health.

Healthcare Safety and Quality Improvement Research: Pharmacists with expertise in informatics; infectious diseases specialists; geriatricians; surgeons with a specialty in diagnostic error; health disparities and social determinants of health.

Healthcare Information Technology Research: Biomedical and consumer health informatics; family medicine; health care data analysis; health information technology; health services research in patient-oriented research; electronic health record and data for research; population-based studies in medicine; epidemiology; telehealth/telemedicine; emergency medicine; insurance benefit design; chronic condition care; natural language processing and machine learning; social networking and its determinants of health; health disparities and social determinants of health.

Healthcare Systems and Value Research: Health statistics; health care outcome research; evaluation and survey methods; health system and service research; health care policy research; health economics research; large database analysis; private health insurance/Medicaid and Medicare; learning laboratory development; health disparities and social determinants of health.

Health Care Research Training: Clinicians with knowledge of health policy; Medicare and Medicaid; addiction medicine; health disparities and social determinants of health.

Additional study section descriptive information can be found here:

Study Section Rosters: http://www.ahrq.gov/funding/process/study-section/peerrev.

Study Section Descriptions: http://www.ahrq.gov/funding/process/study-section/peerdesc.

Study Section Research Foci: http://www.ahrq.gov/funding/process/study-section/resfoci.

Interested individuals may nominate themselves, and organizations and individuals may nominate one or more qualified persons for study section membership. A diversity of perspectives is valuable to AHRQ's work. To help obtain a diversity of perspectives among nominees, AHRQ seeks nominations of individuals from populations underrepresented in medicine. All nominations must be submitted electronically, and should include:

1. A copy of the nominee's current curriculum vitae and contact information, including mailing address, phone number, and email address.

2. Preferred study section assignment.

Dated: September 16, 2022.
Marquita Cullom,
Associate Director.

[FR Doc. 2022-20419 Filed 9-20-22; 8:45 am]

BILLING CODE 4160-90-P